DEPARTMENT OF THE TREASURY

Internal Revenue Service

[REG-253578-96]

Proposed Collection; Comment Request for Regulation Project; Correction

AGENCY: Internal Revenue Service (IRS), Treasury.

ACTION: Correction to notice and request for comments.

SUMMARY: This document contains corrections to a notice and request for comments, which was published in the Federal Register on Monday, August 22, 2005 (70 FR 49010). This notice relates to the Department of the Treasury's invitation to the general public and other Federal agencies to take the opportunity to comment on proposed and/or continuing information collections.

FOR FURTHER INFORMATION CONTACT: Allan Hopkins, (202) 622-6665 (not a toll-free number).

SUPPLEMENTARY INFORMATION:

Background

The notice and request for comments that is the subject of these corrections is required by the Paperwork Reduction Act of 1995, Public Law 104-13 (44 U.S.C. 3506(c)(2)(A)).

Need for Correction

As published, the comment request for REG-253578-96 contains errors which may prove to be misleading and are in need of clarification.

Correction of Publication

Accordingly, the publication of the comment request for REG-253578-96, which was the subject of FR Doc. 05-16609, is corrected as follows:

1. On page 49010 and 49011, columns 3 and 1 respectively, under the caption SUMMARY, lines 15 through 17 on page 40910, and lines 1 and 2 on page 40911, the language “Group Health Plans; and temporary regulation (TD 8716) Interim Rules for Health Insurance Portability for Group Health Plans (54.9801-3T, 54.9801-4T, 54.98015T, and 54.9801-6T).” is corrected to read “Group Health Plans and Rules for Health Insurance Portability for Group Health Plans.”.

2. On page 49011, column 1, under the caption SUPPLEMENTARY INFORMATION, lines 1 through 4, the language “Title: Notice of Proposed Rulemaking, Health Insurance Portability for Group Health Plans, and temporary regulation, Interim Rules for Health Insurance” is corrected to read “Title: Health Insurance Portability for Group Health Plans, and Rules for Health Insurance”.

Cynthia E. Grigsby,
Acting Chief, Publications and Regulations Branch, Legal Processing Division, Associate Chief Counsel (Procedures and Administration).

[FR Doc. E5-4898 Filed 9-8-05; 8:45 am]

BILLING CODE 4830-01-P